DEPARTMENT OF STATE

[Public Notice 10721]

Notice of Public Meeting

The Department of State will conduct an open meeting at 9:30 a.m. on April 23, 2019, in conference room 5J16-15 of the Douglas A. Munro Coast Guard Headquarters Building at St. Elizabeth's, 2703 Martin Luther King Jr. Avenue SE, Washington, DC 20593. The primary purpose of the meeting is to prepare for the sixth session of the International Maritime Organization's (IMO) Sub-Committee on Human Element, Training and Watchkeeping (HTW) to be held at the IMO Headquarters, United Kingdom, April 29 to May 3, 2019.

The agenda items to be considered include:

—Decisions of other IMO bodies

—Validated model training courses

—Reports on unlawful practices associated with certificates of competency

—Guidance for STCW Code, section B-I/2

—Comprehensive review of the 1995 STCW-F Convention

—Role of the human element

—Development of amendments to the Revised guidelines for the development, review and validation of model courses (MSC-MEPC.2/Circ.15/Rev.1)

—Development of amendments to the STCW Convention and Code for the use of electronic certificates and documents of seafarers

—Biennial status report and provisional agenda for HTW 7

—Election of Chair and Vice-Chair for 2020

—Any other business

Members of the public may attend this meeting up to the seating capacity of the room. Upon request to the meeting coordinator, members of the public may also participate via teleconference, up to the capacity of the teleconference phone line. To access the teleconference line, participants should call (202) 475-4000 and use Participant Code: 796 771 84. To facilitate the building security process, and to request reasonable accommodation, those who plan to attend should contact the meeting coordinator, Mr. Kenneth Doyle, by email at Kenneth.J.Doyle@uscg.mil, by phone at (202) 372-1046, or in writing at 2703 Martin Luther King Jr. Ave. SE, Stop 7509, Washington, DC 20593-7509 not later than April 9, 2019, 14 days prior to the meeting. Requests made after April 9, 2019 might not be able to be accommodated. Please note that due to security considerations, two valid, government issued photo identifications must be presented to gain entrance to the Douglas A. Munro Coast Guard Headquarters Building at St. Elizabeth's. This building is accessible by taxi, public transportation, and privately owned conveyance (upon request).

Gregory J. O'Brien,
Senior Oceans Policy Advisor, Office of Ocean and Polar Affairs, Department of State.

[FR Doc. 2019-06075 Filed 3-28-19; 8:45 am]

BILLING CODE 4710-09-P